DEPARTMENT OF ENERGY

Federal Energy Regulatory Commission

[Docket Nos. CP10-3-000; CP10-3-001]

Questar Overthrust Pipeline Company; Amended Notice of Intent To Prepare an Environmental Assessment for the Proposed Mainline 133 Loop Expansion Project and Request for Comments on Environmental Issues

March 30, 2010.

As previously noticed on April 10, 2009, and amended herein, the staff of the Federal Energy Regulatory Commission (FERC or Commission) will prepare an environmental assessment (EA) that will discuss the environmental impacts of the Mainline 133 Loop Expansion Project (Loop Expansion Project), involving construction and operation of facilities by Questar Overthrust Pipeline Company (Overthrust) in Uinta and Sweetwater Counties, Wyoming. This EA will be used by the Commission in its decision-making process to determine whether the project is in the public convenience and necessity.

This notice announces the opening of a second scoping period (due to pipeline route changes in the project design) the Commission will use to gather input from the public and interested agencies on the project. Your input will help the Commission staff determine what issues need to be evaluated in the EA. Please note that the scoping period will close on April 29, 2010.

This notice is being sent to the Commission's current environmental mailing list for this project, as well as newly-affected landowners along the revised pipeline routes. State and local government representatives are asked to notify their constituents of this proposed project and encourage them to comment on their areas of concern.

If you are a landowner receiving this notice, you may be contacted by a pipeline company representative about the acquisition of an easement to construct, operate, and maintain the proposed facilities. The company would seek to negotiate a mutually acceptable agreement. However, if the project is approved by the Commission, that approval conveys with it the right of eminent domain. Therefore, if easement negotiations fail to produce an agreement, the pipeline company could initiate condemnation proceedings in accordance with State law.

A fact sheet prepared by the FERC entitled “An Interstate Natural Gas Facility on My Land? What Do I Need To Know?” was attached to the project notice Overthrust provided to landowners. This fact sheet addresses a number of typically-asked questions, including the use of eminent domain and how to participate in the Commission's proceedings. It is also available for viewing on the FERC Web site (http://www.ferc.gov).

Summary of the Proposed Project

Overthrust proposes to construct the following facilities:

• About 43 miles of 36-inch-diameter pipeline in Uinta and Sweetwater Counties, Wyoming;

• A bypass valve assembly tie-in at the Rock Springs Compressor Station in Rock Springs, Wyoming;

• A new crossover valve assembly at about milepost (MP) 43.3; and

• Two 36-inch-diameter block valves at about MPs 18.6 and 38.5.

The Loop Expansion Project would allow Overthrust to provide up to 800,000 dekatherms per day of natural gas westbound to Kern River Gas Transmission Company and to El Paso Corporation's proposed Ruby Pipeline.

Since issuance of our ¹ April 10, 2009 notice, Overthrust has changed its proposed 43-mile-long pipeline route in two locations to address concerns by General Chemical (Soda Ash) Partners (General Chemical) and FMC Corporation (FMC) regarding impacts on active mining operations in the project area. Overthrust revised its route from MP 19.7 to 26 and MP 30.2 to 38.4 to avoid and/or mitigate impacts in the General Chemical and FMC mining areas, respectively. These revised sections are similar in length and are within proximity to the originally-proposed sections of the pipeline route.

¹ “We”, “us”, and “our” refer to the environmental staff of the Commission's Office of Energy Projects.

The general location of the originally-proposed route and the revised sections are shown in the appendix.²

² The appendix referenced in this notice is not being printed in the Federal Register. Copies of the appendix were sent to all those receiving this notice in the mail and are available at http://www.ferc.gov using the link called “eLibrary” or from the Commission's Public Reference Room, 888 First Street, NE., Washington, DC 20426, or call (202) 502-8371. For instructions on connecting to eLibrary, refer to page 6 of this notice.

Land Requirements for Construction

Construction of Overthrust's proposed facilities would disturb about 833 acres of land including aboveground facilities and the pipeline. Overthrust would use existing public roads to access the work areas. Following construction, about 262.3 acres would be maintained for permanent operation of the project's facilities while the remaining acreage would be restored and allowed to revert to former uses. About 90 percent (39.1 miles) of the pipeline would be collocated with existing pipeline, utility, or road rights-of-ways.

The EA Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EA on the important environmental issues. By this notice, the Commission requests public comments on the scope of the issues to address in the EA. All comments received will be considered during the preparation of the EA.

In the EA we will discuss impacts that could occur as a result of the construction and operation of the proposed project under these general headings:

• Geology and soils;

• Land use;

• Water resources, fisheries, and wetlands;

• Cultural resources;

• Vegetation and wildlife;

• Air quality and noise;

• Endangered and threatened species; and

• Public safety.

We will also evaluate reasonable alternatives to the proposed project or portions of the project, and make recommendations on how to lessen or avoid impacts on the various resource areas.

Our independent analysis of the issues will be presented in the EA. The EA will be placed in the public record and will be published and distributed to the public. A comment period will be allotted for public review when the EA is published. We will consider all comments on the EA before we make our recommendations to the Commission. To ensure your comments are considered, please carefully follow the instructions in the Public Participation section below.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice. Currently, the Department of the Interior's Bureau of Land Management has expressed its intention to participate as a cooperating agency in the preparation of the EA to satisfy its NEPA responsibilities related to this project.

Consultations Under Section 106 of the National Historic Preservation Act

In accordance with the Advisory Council on Historic Preservation's implementing regulations for the section 106 process, we are using this notice to solicit the views of the public on the project's potential effects on historic properties.³ We will document our findings on the impacts on cultural resources and summarize the status of consultations under section 106 of the National Historic Preservation Act in our EA.

³ The Advisory Council on Historic Preservation's regulations are at Title 36, Code of Federal Regulations, Part 800. Historic properties are defined in those regulations as any prehistoric or historic district, site, building, structure, or object included in or eligible for inclusion in the National Register for Historic Places.

Currently Identified Environmental Issues

We have already identified several issues that we think deserve attention based on a preliminary review of the revised facilities and the environmental information provided by Overthrust. This preliminary list of issues may be changed based on your comments and our analysis:

• Geologic concerns in the active mining areas, and

• Cultural resources.

Public Participation

You can make a difference by providing us with your specific comments or concerns about the project. Your comments should focus on the potential environmental effects, reasonable alternatives, and measures to avoid or lessen environmental impacts. The more specific your comments, the more useful they will be. To ensure that your comments are timely and properly recorded, please send your comments so that they will be received in Washington, DC on or before April 29, 2010.

For your convenience, there are three methods you can use to submit your comments to the Commission. The Commission encourages electronic filing of comments and has expert eFiling staff available to assist you at (202) 502-8258 or efiling@ferc.gov.

(1) You may file your comments electronically by using the Quick Comment feature, which is located at http://www.ferc.gov under the link called Documents and Filings. A Quick Comment is an easy method for interested persons to submit text-only comments on a project;

(2) You may file your comments electronically by using the “eFiling” feature that is listed under the Documents and Filings link. eFiling involves preparing your submission in the same manner as you would if filing on paper, and then saving the file on your computer's hard drive. You will attach that file to your submission. New eFiling users must first create an account by clicking on the links called Sign up or eRegister. You will be asked to select the type of filing you are making. A comment on a particular project is considered a “Comment on a Filing”; or

(3) You may file a paper copy of your comments at the following address: Kimberly D. Bose, Secretary, Federal Energy Regulatory Commission, 888 First Street, NE., Room 1A, Washington, DC 20426.

Environmental Mailing List

The environmental mailing list includes General Chemical and FMC; Federal, State, and local government representatives and agencies; elected officials; environmental and public interest groups; Native American Tribes; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the proposed project. When the EA is published for distribution, copies will be sent to the environmental mailing list for public review and comment.

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site.

Additional Information

Additional information about the project is available from the Commission's Office of External Affairs, at (866) 208-FERC, or on the FERC Web site (http://www.ferc.gov) using the eLibrary link. Click on the eLibrary link, click on “General Search” and enter the docket number, excluding the last three digits in the Docket Number field (i.e., CP10-3). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries and direct links to the documents. Go to http://www.ferc.gov/esubscribenow.htm.

Finally, any public meetings or site visits related to this project will be posted on the Commission's calendar located at http://www.ferc.gov/EventCalendar/EventsList.aspx along with other related information.

Kimberly D. Bose,
Secretary.

[FR Doc. 2010-8057 Filed 4-8-10; 8:45 am]

BILLING CODE 6717-01-P